DEPARTMENT OF LABOR

Bureau of Labor Statistics

Information Collection Activities; Comment Request

AGENCY: Bureau of Labor Statistics, Department of Labor.

ACTION: Notice of information collection, request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed revision of the “The Consumer Expenditure Surveys: The Quarterly Interview and the Diary.” A copy of the proposed information collection request can be obtained by contacting the individual listed below in the Addresses section of this notice.

DATES: Written comments must be submitted to the office listed in the Addresses section of this notice on or before March 28, 2022.

ADDRESSES: Send comments to Nora Kincaid, BLS Clearance Officer, Division of Management Systems, Bureau of Labor Statistics, Room 4080, 2 Massachusetts Avenue NE, Washington, DC 20212. Written comments also may be transmitted by email to BLS_PRA_Public@bls.gov.

FOR FURTHER INFORMATION CONTACT: Nora Kincaid, BLS Clearance Officer, at 202-691-7628 (this is not a toll free number). (See Addresses section.)

SUPPLEMENTARY INFORMATION:

I. Background

The Consumer Expenditure (CE) Surveys collect data on consumer expenditures, demographic information, and related data needed by the Consumer Price Index (CPI) and other public and private data users. The continuing surveys provide a constant measurement of changes in consumer expenditure patterns for economic analysis and to obtain data for future CPI revisions. The CE Surveys have been ongoing since 1979.

The data from the CE Surveys are used (1) for CPI revisions, (2) to provide a continuous flow of data on income and expenditure patterns for use in economic analysis and policy formulation, and (3) to provide a flexible consumer survey vehicle that is available for use by other Federal Government agencies. Public and private users of price statistics, including Congress and the economic policymaking agencies of the Executive branch, rely on data collected in the CPI in their day-to-day activities. Hence, data users and policymakers widely accept the need to improve the process used for revising the CPI. If the CE Surveys were not conducted on a continuing basis, current information necessary for more timely, as well as more accurate, updating of the CPI would not be available. In addition, data would not be available to respond to the continuing demand from the public and private sectors for current information on consumer spending.

In the Quarterly Interview Survey, each consumer unit (CU) in the sample is interviewed every three months over four calendar quarters. The sample for each quarter is divided into three panels, with CUs being interviewed every three months in the same panel of every quarter. The Quarterly Interview Survey is designed to collect data on the types of expenditures that respondents can be expected to recall for a period of three months or longer. In general the expenses reported in the Interview Survey are either relatively large, such as property, automobiles, or major appliances, or are expenses which occur on a fairly regular basis, such as rent, utility bills, or insurance premiums.

The Diary (or recordkeeping) Survey is completed at home by the respondent family for two consecutive one-week periods. The primary objective of the Diary Survey is to obtain expenditure data on small, frequently purchased items which normally are difficult to recall over longer periods of time.

II. Current Action

Office of Management and Budget clearance is being sought for the proposed revision of the Consumer Expenditure Surveys: The Quarterly Interview (CEQ) and the Diary (CED).

The continuing CE Surveys provide a constant measurement of changes in consumer expenditure patterns for economic analysis and obtain data for future CPI revisions.

In the CEQ, CE is seeking clearance to make the below changes.

CE will add point of purchase questions for electrical vehicle charging including the location (street intersection or location such as the name of the shopping center), the city, state, company, and method of payment where electric charging services were obtained. CE will also implement Computer Assisted Recording Instrument (CARI) technology into CE for quality control and research purposes. CARI is a tool available during data collection to capture audio along with response data. With the respondent's consent, a portion of each interview is recorded unobtrusively. The respondent's consent will be obtained through a consent request question asking for the respondent's permission to record the interview for quality control purposes. Lastly, the questions on armed forces will be asked prior to the question on veteran status and individuals who indicate they are in the armed forces will no longer be asked if they are a veteran.

The CED uses both a CAPI instrument and the paper Diary CE-801, Record of Your Daily Expenses. CE plans to update the Diary CE-801 paper Diary as well as implement an online version for non-emergency data collection.

The CED Diary collects information on CU expenditures by asking each selected sample unit to keep two one-week diaries of all expenditures. The Diary is necessary to collect expenditures that respondents may not be able to recall in a retrospective interview. Several changes will be made to the Diary, both the online and the paper version. First the column “Mark (X) if purchased for someone not on your list” will be removed. Second, the specific type of alcohol purchased will no longer be collected and the question will be updated to “Were alcoholic beverages included in total cost?”; the columns for “wine”, “beer”, and “other” columns will be replaced with “yes” and “no” columns; and “Enter the total cost of the alcohol” will be replaced with “If YES—How much?” Third, the column “Mark (X) one that best describes the type of meal” will be deleted as the meal type (breakfast, lunch, dinner, snack/drink) is no longer needed. Fourth, instruction on the Diary flap on ‘How to Fill Out Your Diary’ will be updated to reflect the above changes. The Diary flap instructions will also be updated to indicate that food trucks should be included in ‘Mobile Vendor’ establishments.

The advance letters for both the CEQ and CED will be updated to reflect changes in the estimated time to complete the interview. These letters explain the nature of the information the BLS wants to collect and the uses of the CEQ or the CED data, as appropriate; informs the respondents of the confidential treatment of all identifying information they provide; requests the respondents' participation in the survey; describes the survey's compliance with the relevant provisions of the Privacy Act and the Office of Management and Budget (OMB) disclosure requirements; and provides a link to the address of the respondent's informational web page.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: The Consumer Expenditure Surveys: The Quarterly Interview and the Diary.

OMB Number: 1220-0050.

Type of Review: Revision.

Affected Public: Individuals or Households.

Form | Total respondents | Frequency | Total responses | Average time per response | Estimated total burden
CEQ—Interview | 5,000 | 4 | 20,000 | 68 minutes | 22,667
CEQ—Reinterview | 2,400 | 1 | 2,400 | 10 minutes | 400
CED—Diary (record-keeping) | 6,250 | 2 | 12,500 | 60 minutes | 12,500
CED—Diary (Interview) | 6,250 | 2 | 12,500 | 19 minutes | 3,958
CED—Diary (Reinterview) | 1,250 | 1 | 1,250 | 10 minutes | 208
Totals |  |  | 48,650 |  | 39,733

Comments submitted in response to this notice will be summarized and/or included in the request for Office of Management and Budget approval of the information collection request; they also will become a matter of public record.

Signed at Washington, DC, on this 19th day of January 2022.
Eric Molina,
Acting Chief, Division of Management Systems.

[FR Doc. 2022-01381 Filed 1-24-22; 8:45 am]

BILLING CODE 4510-24-P